TENNESSEE VALLEY AUTHORITY

Agency Information Collection Activities: Proposed Collection; Comment Request

AGENCY: Tennessee Valley Authority.

ACTION: 30-Day notice of submission of information collection approval and request for comments.

SUMMARY: This is a renewal request for approval of the EnergyRight® Program information collection (OMB No. 3316-0019). The information collection described below will be submitted to the Office of Management and Budget (OMB) for review, as required by the Paperwork Reduction Act of 1995. The Tennessee Valley Authority is soliciting public comments on this renewal of an existing information collection as provided by 5 CFR 1320.8(d)(1).

ADDRESSES: Requests for information, including copies of the information collection proposed and supporting documentation, should be directed to the Senior Privacy Program Manager: Christopher A. Marsalis, Tennessee Valley Authority, 400 W. Summit Hill Dr. (WT 5D), Knoxville, Tennessee 37902-1401; telephone (865) 632-2467 or by email at camarsalis@tva.gov; or to Joy L. Lloyd, Tennessee Valley Authority, 400 W. Summit Hill Dr. (WT 5A), Knoxville, Tennessee 37902-1401; telephone (865) 632-8370 or by email at jllloyd@tva.gov; or to the Agency Clearance Officer: Philip D. Propes, Tennessee Valley Authority, 1101 Market Street (MP 3), Chattanooga, Tennessee 37402-2801; telephone (423) 751-8593 or email at pdpropes@tva.gov.

DATES: Comments should be sent to the Agency Clearance Officer, and the OMB Office of Information & Regulatory Affairs, Attention: Desk Officer for Tennessee Valley Authority, Washington, DC 20503, or email: oira_submission@omb.eop.gov, no later than May 12, 2017.

SUPPLEMENTARY INFORMATION:

Type of Request: Reauthorization, Regular submission.

Title of Information Collection: EnergyRight® Program.

Frequency of Use: On Occasion.

Type of Affected Public: Individuals or households.

Small Businesses or Organizations Affected: No.

Federal Budget Functional Category Code: 271.

Estimated Number of Annual Responses: 33,000.

Estimated Total Annual Burden Hours: 10,020.

Estimated Average Burden Hours per Response: .3.

Need For and Use of Information: This information is used by distributors of TVA power to assist in identifying and financing energy improvements for their electrical energy customers.

Philip D. Propes,
Director, TVA Cybersecurity.

[FR Doc. 2017-07296 Filed 4-11-17; 8:45 am]

BILLING CODE 8120-08-P